FEDERAL COMMUNICATIONS COMMISSION

[DA 10-2320]

Video Programming and Emergency Access Advisory Committee; Announcement of Establishment and Members; and Announcement of Date of First Meeting

AGENCY: Federal Communications Commission.

ACTION: Notice.

SUMMARY: This document announces the establishment and appointment of members of the Video Programming and Emergency Access Advisory Committee (“Committee” or “VPEAAC”) of the Federal Communications Commission (“Commission”). This document also announces the change of the Committee's popular name to the Video Programming Accessibility Advisory Committee (“VPAAC”). The Commission further announces the date of the Committee's first meeting.

DATES: The Committee was established on December 7, 2010. The first meeting of the Committee will take place on Thursday, January 13, 2011, 9 a.m. to 5 p.m., at Commission Headquarters.

ADDRESSES: Federal Communications Commission, 445 12th Street, SW., Washington, DC 20554.

FOR FURTHER INFORMATION CONTACT: Pam Gregory, Consumer and Governmental Affairs Bureau, 202-418-2498 (voice), 202-418-1169 (TTY), or Pam.Gregory@fcc.gov (e-mail); or Alison Neplokh, Media Bureau, 202-418-1083, Alison.Neplokh@fcc.gov (e-mail).

SUPPLEMENTARY INFORMATION: On December 7, 2010, in document DA-2320, Chairman Julius Genachowski announced the establishment and appointment of members of the VPEAAC, following a nominations period that closed on November 1, 2010. This Committee is established in accordance with the Twenty-First Century Communications and Video Accessibility Act of 2010, Public Law 111-260 (“Communications and Video Accessibility Act” or “CVAA”). To avoid confusion with the Emergency Access Advisory Committee (a second committee created under the CVAA), the Video Programming and Emergency Access Advisory Committee will commonly be referred to as the Video Programming Accessibility Advisory Committee (VPAAC). All meetings of the VPAAC shall be open to the public. Its purpose is to develop recommendations on closed captioning of Internet programming previously captioned on television; the compatibility between video programming delivered using Internet protocol and devices capable of receiving and displaying such programming in order to facilitate access to captioning, video description and emergency information; video description and accessible emergency information on television programming delivered using Internet protocol or digital broadcast television; accessible user interfaces on video programming devices; and accessible programming guides and menus. Within six (6) months of its first meeting, the VPAAC shall submit recommendations concerning the provision of closed captions for Internet-delivered video programming and the ability of video devices to pass through closed captions contained on Internet-based video programming. By April 8, 2012, the VPAAC shall submit recommendations on the remaining issues listed above. At the VPAAC's first meeting, the Committee will be divided into four working groups, each of which will be assigned specific tasks related to the Committee's purposes.

The Chairman of the Commission is appointing forty-five (45) members of the VPAAC. Of this number, ten (10) represent interests of persons with disabilities; six (6) represent interests of closed captioning and video description providers; eleven (11) represent device manufacturers; four (4) represent Internet and software companies; two (2) represent broadcasters; and twelve (12) represent video programming distributors and providers. The VPAAC's membership meets the CVAA's goals of assembling a Committee that has the technical knowledge and engineering experience needed to meet the tasks assigned. All appointments are effective immediately and shall terminate December 7, 2012, or when the Committee is terminated, whichever is earlier.

The membership of the VPAAC, designated by organization or affiliation, as appropriate, is as follows:

• Adobe, Inc.—Andrew Kirkpatrick

• Alliance for Telecommunications Industry Solutions—Phyllis Anderson

• American Council of the Blind—Melanie Brunson

○ Marlaina Lieberg, Pratik Patel—Alternates

• American Foundation for the Blind—Bradley Hodges

• American Institute for the Prevention of Blindness—Louis Herrera

• AT&T—Leonardo Velazquez

• Audio Description Associates—Joel Snyder

• Bright House Networks—Jeffrey Cantrell

• Broadcast Interactive Media—Timur Yarnall

• Caption Colorado—Gary Rulh

○ Chris Crosgrove—Alternate

• CBS—Mark Turits

• Center for Hearing and Communication—Joseph Gordon

• Chicago Lighthouse Service—Bill Jurek

• Comcast Cable—Charlie Kennamer

• Computer Prompting and Captioning—Sidney Hoffman

• Consumer Electronics Association—Brian Markwalter

• Cox Communications—Steve Watkins

• Digital Media Association—Lee Knife

• DirecTV—Robert Gabrielli

• Disney ABC Cable Networks—Vince Roberts

• EchoStar Technologies—John Card

• Google—Naomi Black

○ Ken Harrenstein—Alternate

• Hearing Loss Association of America—Lise Hamlin

• IDEAL Group—Steve Jacobs

• Iowa Radio Reading Service—Mary Evans

• LG Electronics/Zenith Electronics—Wayne Luplow

○ Tim Laud—Alternate

• Microsoft—Ann Marie Rohaly

○ Laura Ruby—Alternate

• Modulation Sciences, Inc.—Eric Small

• Motion Picture Association of America—Van Stevenson

• Motorola—Jeffrey Newdeck

• National Association of Broadcasters—Kelly Williams

• National Association of the Deaf—Shane Feldman

○ Jeff Rosen, Kelby Brick—Alternates

• National Cable and Telecommunications Association—Andy Scott

○ Diane Burstein, Jill Luckett—Alternates

• National Captioning Institute—Beth Nubbe

• Northern Virginia Resource Center for Deaf and Hard of Hearing Persons—Cheryl Heppner

• Research in Motion—Greg Fields

• Rovi Corporation—Adam Powers

○ Adam Goldberg—Alternate

• Sony Electronics—Paul Hearty

○ Mark Eyer—Alternate

• Telecommunications for the Deaf and Hard of Hearing, Inc.—Claude Stout

• Turner Broadcasting System—Clyde Smith

• Verizon Technology Organization—Samuel Olu Akiwimi-Assani

○ Jimmy Ho—Alternate

• Viacom—Glenn Goldstein

○ Christopher Heaton—Alternate

• VITAC—Tim Taylor

○ Bob Beyer, Heather York—Alternates

• WGBH National Center on Accessible Media—Larry Goldberg

• World Wide Web Consortium—Judy Brewer

To request materials in accessible formats for people with disabilities (Braille, large print, electronic files, audio format), send an e-mail to fcc504@fcc.gov or call the Consumer and Governmental Affairs Bureau at (202) 418-0530 (voice), (202) 418-0432 (TTY).

Federal Communications Commission.
Karen Peltz Strauss,
Deputy Chief, Consumer and Governmental Affairs Bureau.

[FR Doc. 2011-821 Filed 1-13-11; 8:45 am]

BILLING CODE 6712-01-P